DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Substance Abuse and Mental Health Data Archive (SAMHDA) Data Portal Applications—In Use Without Approval

The Substance Abuse and Mental Health Administration (SAMHSA), Center for Behavioral Health Statistics and Quality (CBHSQ) funded the SAMHDA contract to promote the access and use of the nation's substance abuse and mental health data on December 3rd, 1997. This includes public-use data files, file documentation, and access to restricted-use data files to support a better understanding of this critical area of public health. As a part of the SAMHDA initiative, the Data Portal was created and launched in January of 2013. The Data Portal provides researchers that need access to restricted-use data remote access to confidential data via a virtual desktop from a secure, approved location. Completions of an application process and project approval are required for Data Portal access. The information being collected in this needs assessment will provide CBHSQ the information required to determine whether a researcher is qualified to obtain access to the Data Portal, and restricted-use data collected under the Confidential Information Protection and Statistical Efficiency Act (CIPSEA).

Description of Forms: Applications will include 18 questions and require the submission of CV's. The application asks for information including the name of the organization that the researcher belongs to, name, title and contact information of the researcher and all subsequent researchers on the team, summaries of each applicants experience with restricted data and their CV's, descriptions of the proposed research projects and methodology, what data is being requested and why, and any potential restricted variables that may be requested.

Description of Respondents: The respondent universe for this data collection effort is researchers with a need for access to CBHSQ restricted-use data. These data include the National Survey on Drug Use and Health (NSDUH), the Drug Abuse Warning Network (DAWN), and NSDUH/DAWN supplement data. Respondents are researchers that have a need and want to provide this information. There are open calls for applications that occur 2 times a year, and applications are accepted during a month long period. Anyone may apply.

Table 1—Annual Burden Estimate
Form name | Number of respondents | Annual responses per respondent | Total annual responses | Hours per response | Total annual hour burden
Data Portal Application Needs Assessment | 100 | 1 | 100 | 5 | 500

Written comments and recommendations concerning the proposed information collection should be sent by April 23, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-06607 Filed 3-23-15; 8:45 am]

BILLING CODE 4162-20-P